DEPARTMENT OF TRANSPORTATION

National Highway Traffic Safety Administration

49 CFR Parts 525 and 531

[NHTSA-2008-0115]

Exemptions From Average Fuel Economy Standards; Passenger Automobile Average Fuel Economy Standards

AGENCY: National Highway Traffic Safety Administration (NHTSA), Department of Transportation (DOT).

ACTION: Proposed rule; withdrawal.

SUMMARY: NHTSA is withdrawing a proposed decision granting an exemption to Mosler Automotive (Mosler) from the industry-wide passenger car Corporate Average Fuel Economy standard for model years 2008-2010 and setting alternative standards for Mosler for those model years. Mosler did not produce any vehicles during those model years, and therefore granting the exemption would serve no useful purpose.

DATES: NHTSA is withdrawing the proposed rule published June 17, 2008 (73 FR 34242) as of June 13, 2022.

FOR FURTHER INFORMATION CONTACT: Joseph Bayer, Engineer, Fuel Economy Division, Office of Rulemaking, by phone at (202) 366-9540 or by fax at (202) 493-2290 or Hannah Fish, Attorney Advisor, Vehicle Standards and Harmonization, Office of the Chief Counsel, by phone at (202) 366-2992 or by fax at (202) 366-3820.

SUPPLEMENTARY INFORMATION: NHTSA received a petition from Mosler on June 19, 2007, seeking exemption from the passenger automobile fuel economy standards for model years (MYs) 2008 through 2010. In its petition, Mosler stated that it manufactured 15 vehicles in 2004. Mosler estimated that it would produce 40 vehicles in 2008, 50 vehicles in 2009, and 60 vehicles in 2010. NHTSA published a proposed decision establishing an alternative standard for Mosler for MYs 2008-2010 at 73 FR 34242 (June 17, 2008). NHTSA has since confirmed that Mosler did not produce any vehicles for those model years. Therefore, NHTSA is withdrawing the June 17, 2008 proposed grant of exemption and establishment of alternative standards, because granting the exemption would serve no useful purpose.

Issued in Washington, DC, under authority delegated in 49 CFR 1.95.
Steven S. Cliff,
Administrator.

[FR Doc. 2022-12601 Filed 6-10-22; 8:45 am]

BILLING CODE 4910-59-P